DEPARTMENT OF ENERGY

Federal Energy Regulatory Commission

[Project No. 2697-014]

Cedar Falls Hydro; Notice of Application Ready for Environmental Analysis and Soliciting Comments, Recommendations, Terms and Conditions, and Prescriptions

January 28, 2004.

Take notice that the following hydroelectric application has been filed with the Commission and is available for public inspection.

a. Type of Application: New Major License.

b. Project No.: P-2697-014.

c. Date filed: February 10, 2003.

d. Applicant: Northern States Power Company (d/b/a Xcel Energy).

e. Name of Project: Cedar Falls Hydroelectric Project.

f. Location: On the Red Cedar River, in the Towns of Tainter, Red Cedar, and Sherman, Dunn County, Wisconsin. This project does not occupy federal lands.

g. Filed Pursuant to: Federal Power Act 16 U.S.C. 791 (a)—825(r).

h. Applicant Contact: Mr. William Zawacki, Director, Hydro Plants, or Ms. Kristina Bourget, Esq., Northern States Power Company (d/b/a Xcel Energy), 1414 West Hamilton Avenue, PO Box 8, Eau Claire, Wisconsin 54702-0008, 715-836-1136 or 715-839-1305, respectively.

i. FERC Contact: John Ramer, John.Ramer@FERC.gov, (202) 502-8969.

j. Deadline for filing comments, recommendations, terms and conditions, and prescriptions: 60 days from the issuance date of this notice, reply comments are due within 105 days from the date of this notice.

Anyone may obtain an extension of time for these deadlines from the Commission only upon a showing of good cause or extraordinary circumstances in accordance with 18 CFR 385.2008.

All documents (original and eight copies) should be filed with: Magalie R. Salas, Secretary, Federal Energy Regulatory Commission, 888 First Street, NE., Washington, DC 20426. The Commission's Rules of Practice require all interveners filing documents with the Commission to serve a copy of that document on each person on the official service list for the project. Further, if an intervener files comments or documents with the Commission relating to the merits of an issue that may affect the responsibilities of a particular resource agency, they must also serve a copy of the document on that resource agency.

Comments, recommendations, terms and conditions, and prescriptions may be filed electronically via the Internet in lieu of paper. See 18 CFR 385.2001(a)(1) (iii) and the instructions on the Commission's Web site (http://www.ferc.gov) under the “e-Filing” link. The Commission strongly encourages electronic filing.

k. This application has been accepted, and is ready for environmental analysis at this time.

l. The Cedar Falls Project consists of the following existing facilities: (1) A 510-foot-long, 50-foot-high dam, topped with two, 23-foot-wide by 5-foot-high, steel Tainter gates, with a total dam discharge capacity of 57,000 cfs; (2) a 1,752-acre reservoir (Tainter Lake) with a gross storage capacity of 23,000-acre feet; (3) a powerhouse containing three 2,000-kilowatt (kW) horizontal generators with Francis turbines, with a total maximum hydraulic capacity of 2,500 cfs and a total installed generating capacity of 7.1 MW, producing a total of 33,678,351 kWh annually; and (4) appurtenant facilities.

m. A copy of the application is available for review at the Commission in the Public Reference Room or may be viewed on the Commission's Web site at http://www.ferc.gov using the “eLibrary” link. Enter the docket number, excluding the last three digits in the docket number field (P-2697), to access the document. For assistance, contact FERC Online Support at FERCOnlineSupport@ferc.gov, or toll-free at 1-866-208-3676, or for TTY, (202) 502-8659. A copy is also available for inspection and reproduction at the address in item h above.

You may also register online at http://www.ferc.gov/esubscribenow.htm to be notified via email of new filings and issuances related to this or other pending projects. For assistance, contact FERC Online Support. To view upcoming FERC events, go to www.ferc.gov and click on “View Entire Calendar”.

n. All filings must: (1) Bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. Procedures schedule: The Commission staff proposes to issue one Environmental Assessment (EA) rather than issuing a draft and final EA. Staff intends to allow at least 30 days for entities to comment on the EA, and will take into consideration all comments received on the EA before final action is taken on the license application. The application will be processed according to the following schedule, but revisions to the schedule may be made as appropriate:

Action | Tentative date
Notice of availability of the NEPA document | August 2004.
Ready for Commission decision on the application | November 2004.

Final amendments to the application must be filed with the Commission no later than 30 days from the issuance date of this notice.

Magalie R. Salas,
Secretary.

[FR Doc. E4-175 Filed 2-3-04; 8:45 am]

BILLING CODE 6717-01-P